DEPARTMENT OF THE INTERIOR

National Park Service

[NPS-WASO-NAGPRA-20607; PPWOCRADN0-PCU00RP14.R50000]

Notice of Inventory Completion: Department of Anthropology and Middle Eastern Cultures, Mississippi State University, MS

AGENCY: National Park Service, Interior.

ACTION: Notice.

SUMMARY: The Department of Anthropology and Middle Eastern Cultures at Mississippi State University has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the Department of Anthropology and Middle Eastern Cultures at Mississippi State University. If no additional requestors come forward, transfer of control of the human remains to the Indian tribes or Native Hawaiian organizations stated in this notice may proceed.

DATES: Representatives of any Indian tribe or Native Hawaiian organization not identified in this notice that wish to request transfer of control of these human remains should submit a written request with information in support of the request to the Department of Anthropology and Middle Eastern Cultures at Mississippi State University at the address in this notice by May 5, 2016.

ADDRESSES: Dr. Michael L. Galaty, Department of Anthropology and Middle Eastern Cultures, Mississippi State University, PO Box AR, 210 Cobb Building, Mississippi State, MS 39762, telephone (662)325-7525, email mgalaty@anthro.msstate.edu.

SUPPLEMENTARY INFORMATION: Notice is here given in accordance with the Native American Graves Protection and Repatriation Act (NAGPRA), 25 U.S.C. 3003, of the completion of an inventory of human remains under the control of the Department of Anthropology and Middle Eastern Cultures at Mississippi State University. The human remains were removed from Clay and Monroe Counties, MS.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Department of Anthropology and Middle Eastern Cultures at Mississippi State University professional staff in consultation with representatives of the Alabama-Coushatta Tribe of Texas (previously listed as the Alabama-Coushatta Tribes of Texas); Mississippi Band of Choctaw Indians; The Chickasaw Nation; and The Choctaw Nation of Oklahoma.

History and Description of the Remains

In 1982, human remains representing, at minimum 16 individuals were removed from the Hang Kettle #1 site, 22CL620, in Clay County, MS, by Mississippi State University (MSU) archeologist Richard Marshall after being exposed by floodwaters. The human remains have been in the possession of the Department of Anthropology and Middle Eastern Cultures at Mississippi State University since their removal. No known individuals were identified. No associated funerary objects are present. The human remains date to the Late Woodland period, A.D. 700 to 1000.

In 1970, human remains representing, at minimum four individuals were removed from an unidentified site, possibly 22CL500, in Clay County, MS, by MSU archeologists. The human remains have been in the possession of the Department of Anthropology and Middle Eastern Cultures at Mississippi State University since their removal. No known individuals were identified. No associated funerary objects are present. No additional information regarding the age or sex of the human remains is known.

In 1972, human remains representing, at minimum one individual were removed from an unidentified site in Clay County, MS. The human remains have been in the possession of the Department of Anthropology and Middle Eastern Cultures at Mississippi State University since their removal. No known individuals were identified. No associated funerary objects are present. No additional information regarding the age or sex of the human remains is known.

In 1973, human remains representing, at minimum one individual were removed from an unidentified site in Monroe County, MS, by John Gibbs. The human remains have been in the possession of the Department of Anthropology and Middle Eastern Cultures at Mississippi State University since their removal. No known individuals were identified. No associated funerary objects are present. No additional information regarding the age or sex of the human remains is known.

Determinations Made by the Department of Anthropology and Middle Eastern Cultures at Mississippi State University

Officials of the Department of Anthropology and Middle Eastern Cultures at Mississippi State University have determined that:

• Pursuant to 25 U.S.C. 3001(9), the human remains described in this notice are Native American based on their burial context and location.

• Pursuant to 25 U.S.C. 3001(9), the human remains described in this notice represent the physical remains of 22 individuals of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of The Chickasaw Nation.

• Treaties, Acts of Congress, or Executive Orders, indicate that the land from which the Native American human remains were removed is the aboriginal land of The Chickasaw Nation.

• Pursuant to 43 CFR 10.11(c)(1), the disposition of the human remains may be to The Chickasaw Nation.

Additional Requestors and Disposition

Representatives of any Indian tribe or Native Hawaiian organization not identified in this notice that wish to request transfer of control of these human remains should submit a written request with information in support of the request to Dr. Michael L. Galaty, Department of Anthropology and Middle Eastern Cultures, Mississippi State University, PO Box AR, 210 Cobb Building, Mississippi State, MS 39762, telephone (662)325-7525, email mgalaty@anthro.msstate.edu, by May 5, 2016. After that date, if no additional requestors have come forward, transfer of control of the human remains to The Chickasaw Nation may proceed.

The Department of Anthropology and Middle Eastern Cultures at Mississippi State University is responsible for notifying the Alabama-Coushatta Tribe of Texas (previously listed as the Alabama-Coushatta Tribes of Texas); Mississippi Band of Choctaw Indians; The Chickasaw Nation; and The Choctaw Nation of Oklahoma that this notice has been published.

Dated: March 14, 2016.
Melanie O'Brien,
Manager, National NAGPRA Program.

[FR Doc. 2016-07774 Filed 4-4-16; 8:45 am]

BILLING CODE 4312-50-P